DEPARTMENT OF LABOR

Office of the Secretary

Submission of OMB Review; Comment Request

May 23, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Student Data Form.

OMB Number: 1218-0172.

Affected Public: Individuals or households; Business or other for-profit; Not-for-profit institutions; Federal Government; and State, Local, or Tribal Government.

Frequency: On occasion.

Number of Respondents: 5,000.

Number of Annual Responses: 5,000.

Estimated Time Per Response: 5 minutes.

Total Burden Hours: 417.

Total Annualized Capital/Startup Costs: $0.

Total Annual Costs (operating/maintaining systems or purchasing services): $0.

Description: The form OSHA 182 is used to collect student group and emergency information from Training Institutes students. This information is used to contact designated persons in the event of an emergency; for student group data reports; and for tuition receipt.

Ira L. Mills,
Departmental Clearance Officer.

[FR Doc. 01-13785 Filed 5-31-01; 8:45 am]

BILLING CODE 4510-26-M